DEPARTMENT OF VETERANS AFFAIRS

Medical Research Service Merit Review Committee, Notice of Meetings

The Department of Veterans Affairs gives notice under the Public Law 92-463 (Federal Advisory Committee Act) that the subcommittees of the Medical Research Service Merit Review Committee will meet from 8 a.m. to 5 p.m. as indicated below:

Subcommittee for | Date(s) | Location
Aging and Clinical Geriatrics | November 5, 2003 | Holiday Inn Central.
Clinical Research Program | November 17, 2003 | Marriott Residence Inn.
Immunology | November 18-19, 2003 | Marriott Residence Inn.
Endocrinology-A | November 20-21, 2003 | Marriott Residence Inn.
General Medical Science | November 24, 2003 | Governor's House.
Mental Health and Behav Sci | December 1-2, 2003 | Holiday Inn Central.
Surgery | December 8, 2003 | Governor's House.
Infectious Diseases | December 11-12, 2003 | Holiday Inn Central.
Endocrinology-B | December 18-19, 2003 | Holiday Inn Central.

The addresses of the hotels are:

Governor's House, 1615 Rhode Island Avenue, NW., Washington, DC.

Holiday Inn Central, 1501 Rhode Island Avenue, NW., Washington, DC.

Marriott Residence Inn (Thomas Circle), 1199 Vermont Avenue, NW., Washington, DC.

These subcommittee meetings are for the purpose of evaluating the scientific merit of research conducted in each specialty by Department of Veterans Affairs (VA) investigators working in VA Medical Centers and Clinics.

The subcommittee meetings will be open to the public for approximately one hour at the start of each meeting to discuss the general status of the program. The remaining portion of each subcommittee meeting will be closed to the public for the review, discussion, and evaluation of initial and renewal projects.

The closed portion of the meetings involves discussion, examination, reference to and oral review of site visits, staff and consultant critiques of research protocols and similar documents. During this portion of the subcommittee meetings, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-453, as amended, closing portions of these subcommittee meetings is in accordance with 5 U.S.C., 552b(c)(6) and (9)(B). Those who plan to attend or would like to obtain a copy of minutes of the subcommittee meetings and rosters of the members of the subcommittees should contact LeRoy G. Frey, Ph.D., Chief, Program Review Division, Medical Research Service (121F), Department of Veterans Affairs, Washington, DC, (202) 408-3630.

Dated: October 10, 2003.
By Direction of the Secretary.
E. Philip Riggin,
Committee Management Officer.

[FR Doc. 03-26435 Filed 10-20-03; 8:45 am]

BILLING CODE 8320-01-M